DEPARTMENT OF VETERANS AFFAIRS

Enhanced-Use Lease of Property at the Department of Veterans Affairs Medical Center, Minneapolis, MN

AGENCY: Department of Veterans Affairs.

ACTION: Notice of intent to designate.

SUMMARY: The Secretary of the Department of Veterans Affairs (VA) intends to designate 3.58 acres of land at the Department of Veterans Affairs Medical Center in Minneapolis, Minnesota, to be leased under an enhanced-use lease. The Department intends to enter into a 60-year lease of real property with a selected lessee/developer, who would be responsible for all costs and risks associated with the design, construction, renovation, operation, maintenance, and provision of services to manage an affordable housing facility consisting of 166 units for veterans and non-veterans.

FOR FURTHER INFORMATION CONTACT: Vanessa Chambers, Capital Asset Management and Planning Service (182C), Department of Veterans Affairs, 810 Vermont Avenue, NW., Washington, DC 20420, (202) 565-6554.

SUPPLEMENTARY INFORMATION: 38 U.S.C. 8161, et seq. specifically provides that the Secretary may enter into an enhanced-use lease if he determines that at least part of the use of the property under the lease will be to provide appropriate space for an activity contributing to the mission of the Department; the lease will not be inconsistent with and will not adversely affect the mission of the Department; and the lease will enhance the property or result in improved services to veterans. This project meets these requirements.

Approved: May 21, 2004.
Anthony J. Principi,
Secretary of Veterans Affairs.

[FR Doc. 04-12626 Filed 6-3-04; 8:45 am]

BILLING CODE 8320-01-P